DEPARTMENT OF HOMELAND SECURITY

U.S. Customs and Border Protection

Accreditation and Approval of Camin Cargo Control, Inc., as a Commercial Gauger and Laboratory.

AGENCY: U.S. Customs and Border Protection, Department of Homeland Security.

ACTION: Notice of accreditation and approval of Camin Cargo Control, Inc., as a commercial gauger and laboratory.

SUMMARY: Notice is hereby given, pursuant to CBP regulations, that Camin Cargo Control, Inc., has been approved to gauge and accredited to test petroleum and petroleum products, organic chemicals and vegetable oils for customs purposes for the next three years as of September 27, 2013.

DATES: Effective Dates: The accreditation and approval of Camin Cargo Control, Inc., as commercial gauger and laboratory became effective on September 27, 2013. The next triennial inspection date will be scheduled for September 2016.

FOR FURTHER INFORMATION CONTACT: Approved Gauger and Accredited Laboratories Manager, Laboratories and Scientific Services, U.S. Customs and Border Protection, 1300 Pennsylvania Avenue NW., Suite 1500N, Washington, DC 20229, tel. 202-344-1060.

SUPPLEMENTARY INFORMATION: Notice is hereby given pursuant to 19 CFR 151.12 and 19 CFR 151.13, that Camin Cargo Control, Inc., 1800 Dabney Drive, Pasadena, TX 77536, has been approved to gauge petroleum and certain petroleum products and accredited to test petroleum and certain petroleum products for customs purposes, in accordance with the provisions of 19 CFR 151.12 and 19 CFR 151.13. Camin Cargo Control, Inc., is approved for the following gauging procedures for petroleum and certain petroleum products from the American Petroleum Institute (API):

API chapters | Title
3 | Tank gauging.
7 | Temperature Determination.
12 | Calculations.
17 | Maritime Measurements.
4 | Proving Systems.
5 | Metering.
8 | Sampling.
10 | Sediment & Water.
11 | Physical Property data.

Camin Cargo Control, Inc., is accredited for the following laboratory analysis procedures and methods for petroleum and certain petroleum products set forth by the U.S. Customs and Border Protection Laboratory Methods (CBPL) and American Society for Testing and Materials (ASTM):

CBPL No. | ASTM | Title
27-48 | ASTM D-4052 | Standard test method for density and relative density of liquids by digital density meter.
27-01 | ASTM D-287 | Standard test method for API Gravity of crude petroleum products and petroleum products (Hydrometer Method).
27-08 | ASTM D-86 | Standard test method for distillation of petroleum products at atmospheric pressure.
27-11 | ASTM D-445 | Standard test method for kinematic viscosity of transparent and opaque liquids (and calculations of dynamic viscosity).
27-57 | ASTM D-7039 | Standard test method for sulfur in gasoline and diesel fuel by monochromatic wavelength dispersive spectrometry.
27-03 | ASTM D-4006 | Standard test method for water in crude oil by distillation.
27-04 | ASTM D-95 | Standard test method for water in petroleum products and bituminous materials by distillation.
27-13 | ASTM D-4294 | Standard test method for sulfur in Petroleum and Petroleum products by energy dispersive X-ray fluorescence spectrometry.
27-50 | ASTM D-93 | Standard Test Method for Paraffin-Type for Flash-Point by Pensky-Martens Closed Cup Test.
27-21 | ASTM D-4177 | Standard Practice for the Automatic Sampling of Petroleum and Petroleum Products.
27-20 | ASTM D-4057 | Standard Practice for the Manual Sampling of Petroleum and Petroleum Products.
27-58 | ASTM D-5191 | Standard Test Method for Vapor Pressure of Petroleum Products(Mini Method).
27-16 | ASTM E-300 | Standard Practice for Sampling Industrial Chemicals.
27-05 | ASTM D-4928 | Standard Test Method for Water in Crude Oils by Coulometric Karl Fischer Titration.

Anyone wishing to employ this entity to conduct laboratory analyses and gauger services should request and receive written assurances from the entity that it is accredited or approved by the U.S. Customs and Border Protection to conduct the specific test or gauger service requested. Alternatively, inquiries regarding the specific test or gauger service this entity is accredited or approved to perform may be directed to the U.S. Customs and Border Protection by calling (202) 344-1060. The inquiry may also be sent to cbp.labhq@dhs.gov. Please reference the Web site listed below for a complete listing of CBP approved gaugers and accredited laboratories. http://cbp.gov/linkhandler/cgov/trade/basic_trade/labs_scientific_svcs/commercial_gaugers/gaulist.ctt/gaulist.pdf

Dated: February 3, 2014.
Ira S. Reese,
Executive Director, Laboratories and Scientific Services.

[FR Doc. 2014-02793 Filed 2-7-14; 8:45 am]

BILLING CODE 9111-14-P